DEPARTMENT OF THE TREASURY

Internal Revenue Service

Internal Revenue Service Advisory Council; Meeting

AGENCY: Internal Revenue Service, Department of the Treasury.

ACTION: Notice of meeting.

SUMMARY: The Internal Revenue Service Advisory Council (IRSAC) will hold a public meeting on Wednesday, November 20, 2019.

FOR FURTHER INFORMATION CONTACT: Mrs. Anna Brown, Office of National Public Liaison, at 202-317-6851 or send an email to PublicLiaison@irs.gov.

SUPPLEMENTARY INFORMATION: Notice is hereby given pursuant to section 10(a)(2) of the Federal Advisory Committee Act, 5 U.S.C. App. (1988), that a public meeting of the IRSAC will be held on Wednesday, November 20, 2019, from 9:00 a.m. to 1:00 p.m. at the Internal Revenue Service, 1111 Constitution Ave. NW, 7th Floor Auditorium, Washington, DC 20224. Issues to be discussed include, but are not limited to: Accelerating the use ofe-Signatures in Federal Tax Administration; Establishing Safe Harbors by Relying on Certain Conclusions of Independent Parties; Broadening and Improving a Self-Correction Program for Tax-Exempt Bonds; Improving Customer Experience and Service Delivery; Form W-4 2020 Version; Improving the Marketing, Promotion and Participation of VITA/TCE Programs and Other Services; The Effectiveness of Guidance and Outreach for 199A, Qualified Business Income; The Sharing Economy and Impact on the Tax Gap; The Need for Guidance for “On-Demand Payroll”; and Improving the Accuracy of Form 990 Filings. Last-minute agenda changes may preclude advanced notice. Due to building security requirements, confirm your attendance by November 14 to Tina Briscoe at 202-317-6535. Attendees are encouraged to arrive at least 30 minutes before the meeting begins. Should you wish the IRSAC to consider a written statement, please write to Internal Revenue Service, Attn: Anna Brown, Office of National Public Liaison, CL: NPL, Room 7559, 1111 Constitution Avenue NW, Washington, DC 20224 or send an email to PublicLiaison@irs.gov.

Dated: October 17, 2019.
John Lipold,
Branch Chief, IRS Office of National Public Liaison, IRSAC Designated Federal Official.

[FR Doc. 2019-23409 Filed 10-25-19; 8:45 am]

BILLING CODE 4830-01-P